NORTHEAST DAIRY COMPACT COMMISSION

Notice of Meeting

AGENCY: Northeast Dairy Compact Commission.

ACTION: Notice of meeting.

SUMMARY: The Compact Commission will hold its annual meeting and its regular monthly meeting to consider matters relating to administration and enforcement of the price regulation, including the annual reports and monthly reports and recommendations of the Commission's standing Committees. The Commission will also hold its deliberative meeting to consider whether to implement technical amendments to the over-order price regulation to conform to recent amendments to the federal milk price regulations and whether to amend the definition of producer to specify every December since 1996 as a condition of qualification.

DATES: The annual meeting will begin at 10:30 a.m. on Wednesday, March 1, 2000 and will be followed immediately by the regular monthly meeting.

ADDRESSES: The meeting will be held at The Centennial Inn, Armenia White Room, 96 Pleasant Street, Concord, New Hampshire (I-93 Exit 14).

FOR FURTHER INFORMATION CONTACT: Kenneth M. Becker, Executive Director, Northeast Dairy Compact Commission, 34 Barre Street, Suite 2, Montpelier, VT 05602. Telephone (802) 229-1941.

Authority: 7 U.S.C. 7256.

Dated: February 17, 2000.
Kenneth M. Becker,
Executive Director.

[FR Doc. 00-4697 Filed 2-28-00; 8:45 am]

BILLING CODE 1650-01-P